DEPARTMENT OF AGRICULTURE

Agricultural Marketing Service

7 CFR Part 201

[Doc. No. AMS-ST-19-0039]

RIN 0581-AD91

Revisions to the Federal Seed Act Regulations; Correction

AGENCY: Agricultural Marketing Service, USDA.

ACTION: Correcting amendment.

SUMMARY: On July 7, 2020, the Agricultural Marketing Service amended regulations under the Federal Seed Act. The document incorrectly revised the entries for “Oat” and “Brussels Sprouts” in the table that specifies directions for germination and hard seed testing. This document corrects those entries.

DATES: Effective October 15, 2020.

FOR FURTHER INFORMATION CONTACT: Ernest Allen, Director, Seed Regulatory and Testing Division, Science and Technology Program, AMS, USDA; 801 Summit Crossing Place, Suite C, Gastonia, NC 28054, USA; telephone: 704-810-8884; email Ernest.Allen@usda.gov.

SUPPLEMENTARY INFORMATION: The Agricultural Marketing Service recently amended regulations under the Federal Seed Act (7 U.S.C. 1551-1611). See 85 FR 40571; July 7, 2020. The amendments updated regulations related to seed quality, germination and purity standards, and acceptable seed testing methods, and aligned Federal Seed Act regulations with current industry practices. This document corrects the entries for “Oat” and “Brussels Sprouts” in the table that specifies directions for germination and hard seed testing to specify that the prechill requirements for oat and Brussels sprouts apply to fresh and dormant seed.

List of Subjects in 7 CFR Part 201

Certified seed, Definitions, Inspections, Labeling, Purity analysis, Sampling.

For the reasons set forth in the preamble, 7 CFR part 201 is amended as follows:

PART 201—FEDERAL SEED ACT REQUIREMENTS

1. The authority citation for part 201 continues to read as follows:

Authority: 7 U.S.C. 1592.

2. In § 201.58, amend Table 2 in paragraph (c)(3) by revising the entries for “Oat” and “Brussels Sprouts” to read as follows:

§ 201.58 Substrata, temperature, duration of test, and certain other specific directions for testing for germination and hard seed.

* * * * *

(c) * * *

(3) * * *

Table 2—Germination Requirements for Indicated Kinds
Name of seed | Substrata | Temperature (°C) | First count days | Final count days | Additional directions: Specific requirements | Additional directions: Fresh and dormant seed
AGRICULTURAL SEED
* * * * * * *
Oat | B, T, S | 20; 15 | 5 | 10 |  | Prechill at 5 or 10° C for 5 days and test for 7 days or predry and test for 10 days.
* * * * * * *
VEGETABLE SEED
* * * * * * *
Brussels Sprouts | B, P, T | 20-30 | 3 | 10 |  | Prechill 5 days at 5 or 10 °C for 3 days; KNO3 and Light.
* * * * * * *

Bruce Summers,
Administrator, Agricultural Marketing Service.

[FR Doc. 2020-20397 Filed 10-14-20; 8:45 am]

BILLING CODE P